DEPARTMENT OF ENERGY

Federal Energy Regulatory Commission

[Project No. 14335-000]

Stoughton Water Power Company; Notice of Preliminary Permit Application Accepted for Filing and Soliciting Comments, Motions To Intervene, and Competing Applications

On December 7, 2011, the Stoughton Water Power Company filed an application for a preliminary permit under section 4(f) of the Federal Power Act proposing to study the feasibility of the proposed Stoughton Dam Water Power Project No. 14335, to be located at the existing Stoughton Dam on the Yahara River, near the City of Stoughton, in Dane County, Wisconsin. The Stoughton Dam is owned by the City of Stoughton.

The proposed project would consist of: (1) The existing Stoughton Dam; (2) an existing 70-foot-long by 38-foot-wide concrete powerhouse; (3) two new or refurbished hydropower turbines and generators having a total combined generating capacity of 192 kilowatts; (4) an existing 200-foot-long by 40-foot-wide headrace; (5) a 25-foot-long, 12-kilovolt transmission line; and (6) appurtenant facilities. The project would have an estimated annual generation of 450,000 kilowatt-hours.

Applicant Contact: Mr. Thomas J. Reiss, Jr., P.O. Box 553, 319 Hart Street, Watertown, WI 53094; (920) 261-2319.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14335-000) in the docket number field to access the document. For assistance, contact FERC Online Support.

Dated: April 23, 2012.
Kimberly D. Bose,
Secretary.

[FR Doc. 2012-10219 Filed 4-26-12; 8:45 am]

BILLING CODE 6717-01-P